DEPARTMENT OF THE INTERIOR

Bureau of Land Management, Interior

[ID-410-1232-FU-ID27]

Notice of Intent to Collect Fees on Public Land in Kootenai County, ID Under the Federal Lands Recreation Enhancement Act

AGENCY: Bureau of Land Management, Interior.

ACTION: Notice of intent.

SUMMARY: Pursuant to applicable provisions of the Federal Lands Recreation Enhancement Act (REA), 16 U.S.C. 6801, et seq., the Bureau of Land Management (BLM)'s Coeur d'Alene Field Office is proposing to begin collecting fees in 2008 at the Mineral Ridge Public Boat Launch site on Lake Coeur d'Alene, Kootenai County, Idaho. The site is located within section 1 of Township 49 North, Range 3 West.

DATES: The public comment period will expire on August 13, 2007. The public is encouraged to participate in the public comment period. Effective six months after the publication of this notice, the BLM Coeur d'Alene Field Office will initiate fee collection at the Mineral Ridge Public Boat Launch site. The Coeur d'Alene District Resource Advisory Council (RAC) was presented this proposal on December 6, 2006 and supports initiation of fees at this site. Fees will be established by separate supplemental rules pursuant to 43 CFR 8365.1-6. Future adjustments in the fee amount will be modified in accordance with the Coeur d'Alene Field Office Recreation Fee Business Plan, consultation with the Coeur d'Alene District RAC and other public notice prior to a fee increase.

ADDRESSES: Mail: Field Manager, Coeur d'Alene Field Office, 3815 Schreiber Way, Coeur d'Alene, Idaho 83815.

FOR FURTHER INFORMATION CONTACT: Eric Thomson, Field Manager, or Brian White, Outdoor Recreation Planner, Coeur d'Alene Field Office, 3815 Schreiber Way, Coeur d'Alene, Idaho 83815. (208) 769-5030 or (208) 769-5031.

SUPPLEMENTARY INFORMATION: The Coeur d'Alene Field Office is proposing a fee structure of $4.00 per vehicle for parking and/or boat launching at the Mineral Ridge Boat Launch site which is commensurate with other public facilities on Lake Coeur d'Alene. An annual pass would be available for $30.00 that would additionally be accepted at the BLM's Blackwell Island Public Boat Launch which is also located on Lake Coeur d'Alene. Development of this site is consistent with the Emerald Empire Management Framework Plan (1981) and was analyzed in the Coeur d'Alene Lake Recreation Area Management Plan Environmental Assessment of May, 1993.

The BLM is committed to providing, and receiving fair value for the use of, developed recreation facilities and services in a manner that meets public use demands, provides quality experiences and protects important resources. The BLM's policy is to collect fees at all specialized recreation sites, or where the BLM provides facilities, equipment or services, at federal expense, in connection with outdoor use. In an effort to meet increasing demands for services and maintenance of developed facilities, the BLM would implement a fee program for the Mineral Ridge Public Boat Launch. The BLM's mission for the site is to ensure that funding is available to maintain existing facilities and recreational opportunities, to provide for law enforcement presence, to develop additional services, and to protect resources. This mission entails communication with those who will be most directly affected by this project, including recreationists, other recreation providers, partners, neighbors, elected officials, other agencies and others who have a stake in addressing concerns that may arise from the BLM management of the site.

Under section 3(g) of the REA, the Mineral Ridge Public Boat Launch on Lake Coeur d'Alene qualifies as a site wherein visitors can be charged an “Expanded Amenity Recreation Fee.” Visitors wishing to use the amenities at the site could purchase a recreation use permit (RUP) as described in 43 CFR Part 2930. Pursuant to the REA and implementing regulations at 43 CFR Subpart 2933, fees may be charged for day-use facilities such as the Mineral Ridge Public Boat Launch. Specific visitor fees and payment instructions will be clearly posted on site. Persons holding the America the Beautiful—The National Parks and Federal Recreational Lands—Senior Pass (i.e. Interagency Senior Pass), a Golden Age Passport, or the America the Beautiful—The National Parks and Federal Recreational Lands—Access Pass (i.e. Interagency Access Pass) or a Golden Access Passport will be entitled to a 50 percent discount on the daily use fee or $30.00 annual pass.

The Mineral Ridge Boat Launch includes a paved parking area, boat launch and mooring facilities, permanent toilet and trash receptacles, and interpretive signs. This site would join three other BLM sites on the lake that already charge comparable fees.

The Fee Collection Business Plan prepared for the Mineral Ridge Public Boat Launch site provides for fee collection in considering: (1) The amount of the recreation fee shall be commensurate with the benefits and services provided to the visitor; (2) the aggregate effect of recreation fees on recreation users and recreation service providers; (3) comparable fees charged elsewhere by other public agencies and by nearby private sector operators; (4) public policy or management objectives served by the recreation fee; (5) suggestions and other guidance from the Coeur d'Alene District Resource Advisory Council (RAC); and (6) other factors or criteria as determined by the Secretary.

The Coeur d'Alene District Resource Advisory Council (RAC); government officials; tribal, federal, state, county, and local government agencies; conservationists, recreationists, adjacent landowners and right-of-way holders have been or will be notified of the proposal to collect fees through direct mailings, bulletins, fee brochures, public meetings, and on-site public contacts.

The REA provides authority for 10 years for the Secretary of the Interior and the Secretary of Agriculture to establish, modify, charge, and collect recreation fees for use of some federal recreation lands and waters, and contains specific provisions addressing public involvement in the establishment of recreation fees, including a requirement that Recreation Resource Advisory Committees or Councils have the opportunity to make recommendations regarding establishment of such fees. The REA also directed the Secretaries of the Interior and Agriculture to publish advance notice in the Federal Register whenever new recreation fee areas are established under their respective jurisdictions. In accordance with the BLM recreation fee program policy, the Recreation Fee Business Plan for the site explains the fee collection process and outlines how the fees will be used on-site. The BLM has notified and involved the public at each stage of the planning process, including the proposal to collect fees. The Coeur d'Alene District RAC has reviewed the fee proposal and supports the concept. Fee amounts will be posted on-site, and at the Coeur d'Alene Field Office. Copies of the Business Plan are available for public review.

The BLM welcomes public comments on this proposal. Please send any comments you have to the address specified in the ADDRESSES section. Before including your address, phone number, e-mail address, or other personal identifying information in your comment, you are advised that your entire comment—including your personal identifying information—may be made publicly available at any time. While you can ask us in your comment to withhold from public review your personal identifying information, we cannot guarantee that we will be able to do so.

Authority: 16 U.S.C. 6803(b).

Marc Shumaker,
Acting Coeur d'Alene Field Manager.

[FR Doc. E7-13692 Filed 7-12-07; 8:45 am]

BILLING CODE 4310-$$-P